DEPARTMENT OF ENERGY

Federal Energy Regulatory Commission

[Project No. 2520-076]

Notice of Availability of Final Environmental Assessment; Great Lakes Hydro America, LLC

In accordance with the National Environmental Policy Act of 1969 and the Federal Energy Regulatory Commission's (Commission) regulations, 18 CFR part 380, the Office of Energy Projects has reviewed the application for license for the Mattaceunk Hydroelectric Project, located on the Penobscot River in Aroostook and Penobscot Counties, Maine, and has prepared a Final Environmental Assessment (FEA) for the project. The project does not occupy federal land.

The FEA contains Commission staff's analysis of the potential environmental effects of the project, and concludes that licensing the project, with appropriate environmental protective measures, would not constitute a major federal action that would significantly affect the quality of the human environment.

A copy of the FEA is available for review at the Commission in the Public Reference Room, or may be viewed on the Commission's website at http://www.ferc.gov, using the “eLibrary” link. Enter the docket number, excluding the last three digits in the docket number field, to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Adam Peer at (202) 502-8449.

Dated: September 25, 2018.
Kimberly D. Bose,
Secretary.

[FR Doc. 2018-21277 Filed 9-28-18; 8:45 am]

BILLING CODE 6717-01-P